DEPARTMENT OF TRANSPORTATION

Federal Aviation Administration

14 CFR Part 39

[Docket No. FAA-2010-0909; Directorate Identifier 2010-SW-026-AD]

RIN 2120-AA64

Airworthiness Directives; Erickson Air-Crane Incorporated Model S-64F Helicopters

AGENCY: Federal Aviation Administration, DOT.

ACTION: Notice of proposed rulemaking (NPRM).

SUMMARY: This document proposes adopting a new airworthiness directive (AD) for Erickson Air-Crane Incorporated (Erickson Air-Crane) Model S-64F helicopters. The AD would require, at specified intervals, certain inspections of the rotating swashplate assembly (swashplate) for a crack. If a crack is found, this AD would also require, before further flight, replacing the swashplate with an airworthy swashplate. This proposal is prompted by a report from the manufacturer of a swashplate cracking during fatigue testing. The actions specified by the proposed AD are intended to prevent loss of a swashplate due to a fatigue crack, loss of control of the main rotor system, and subsequent loss of control of the helicopter.

DATES: Comments must be received on or before November 15, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Erickson Air-Crane Incorporated, 3100 Willow Springs Road, P.O. Box 3247, Central Point, OR 97502, telephone (541) 664-5544, fax (541) 664-2312.

You may examine the comments to this proposed AD in the AD docket on the Internet at http://regulations.gov.

FOR FURTHER INFORMATION CONTACT: DOT/FAA Southwest Region, Michael Kohner, ASW-170, Aviation Safety Engineer, Rotorcraft Directorate, Rotorcraft Certification Office, Fort Worth, Texas 76137, telephone (817) 222-5170, fax (817) 222-5783.

SUPPLEMENTARY INFORMATION:

Comments Invited

We invite you to submit any written data, views, or arguments regarding this proposed AD. Send your comments to the address listed under the caption ADDRESSES. Include the docket number “FAA-2010-0909, Directorate Identifier 2010-SW-026-AD” at the beginning of your comments. We specifically invite comments on the overall regulatory, economic, environmental, and energy aspects of the proposed AD. We will consider all comments received by the closing date and may amend the proposed AD in light of those comments.

We will post all comments we receive, without change, to http://regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for Erickson Air-Crane Model S-64F helicopters. The AD would require, at specified intervals, certain visual inspections of the swashplate for a crack. Also, the AD would require, at specified intervals, a fluorescent-penetrant inspection (FPI) of the swashplate for a crack. If a crack is found, this AD would also require, before further flight, replacing the swashplate with an airworthy swashplate. This proposal is prompted by a report from the manufacturer of a swashplate cracking during fatigue testing. This condition, if not corrected, could result in loss of a swashplate due to a fatigue crack, loss of control of the main rotor system, and subsequent loss of control of the helicopter.

We have reviewed Erickson Air-Crane Service Bulletin (SB) 64B10-10, Revision 2, dated April 1, 2008 (SB 64B10-10) and SB 64F General-3, Revision C, dated December 12, 2007 (SB 64F General-3). SB 64F General-3 summarizes a listing of the Model S-64F helicopter components, their part number, and the corresponding service bulletins that the manufacturer suggests using when performing the structural inspections of the listed components to maintain the continued airworthiness of the helicopters. Adherence to some or all of these structural limitations may be subsequently required by an AD. SB 64B10-10 listed in SB 64F General-3 and the subject of this proposal describes certain repetitive inspections of the swashplate for a crack to maintain the continued airworthiness of the helicopters.

This unsafe condition is likely to exist or develop on other helicopters of the same type design. Therefore, the proposed AD would require the following:

• Within 15 hours time-in-service (TIS) and thereafter at intervals not to exceed 15 hours TIS, clean and visually inspect the swashplate for a crack.

• Within 150 hours TIS and thereafter at intervals not to exceed 150 hours TIS, clean the swashplate and, using a 10-power or higher magnifying glass, visually inspect the swashplate for a crack.

• Within 1,000 hours TIS since the last FPI and thereafter at intervals not to exceed 1,000 hours TIS, removing the swashplate from the helicopter and conducting an FPI of the swashplate for a crack.

• If a crack is found after any inspection, before further flight, replace the swashplate with an airworthy swashplate.

We estimate that this proposed AD would affect 7 helicopters of U.S. registry and would take about:

• .5 hour for the visual inspection;

• 1 hour for the 10-power or higher magnifying glass inspection;

• 35 hours for the 1,000-hour FPI; and

• 32 hours to replace a swashplate at an average labor rate of $85 per work hour. Required parts would cost about $25,000 per helicopter. Based on these figures, the total cost impact of the proposed AD on U.S. operators would be $229,145, assuming 40 15-hour visual inspections; 4 150-hour 10-power magnifying glass inspections; 1 1000-hour FPI and 1 swashplate replacement for each helicopter for the entire fleet of S-64F helicopters for each year.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Erickson Air-Crane Incorporated: Docket No. FAA-2010-0909; Directorate Identifier 2010-SW-026-AD.

Applicability

Model S-64F helicopters, with rotating swashplate assembly (swashplate), part number (P/N) 65104-11001-051, installed, certificated in any category.

Compliance

Required as indicated.

To prevent loss of a swashplate due to a fatigue crack, loss of control of the main rotor system, and subsequent loss of control of the helicopter, do the following:

(a) Within 15 hours time-in-service (TIS), unless accomplished previously, and thereafter at intervals not to exceed 15 hours TIS, clean and visually inspect the swashplate for a crack in areas A through F as depicted in Figure 1 of Erickson Air-Crane Incorporated Service Bulletin 64B10-10, Revision 2, dated April 1, 2008 (SB).

(b) Within 150 hours TIS, unless accomplished previously, and thereafter at intervals not to exceed 150 hours TIS, clean the swashplate and, using a 10-power or higher magnifying glass, visually inspect for a crack in areas A through F as depicted in Figure 1 of the SB.

(c) Within 1,000 hours TIS since the last fluorescent-penetrant inspection (FPI) and thereafter at intervals not to exceed 1,000 hours TIS, remove the swashplate from the rotor head, disassemble and remove the paint from the swashplate, and FPI the swashplate for a crack in accordance with ATSM E1417, Type I, Methods A or C.

(d) If a crack is found in the swashplate, before further flight, replace the swashplate with an airworthy swashplate.

(e) To request a different method of compliance or a different compliance time for this AD, follow the procedures in 14 CFR 39.19. Contact the Manager, Rotorcraft Certification Office, Rotorcraft Directorate, ATTN: DOT/FAA Southwest Region, Michael Kohner, ASW-170, Aviation Safety Engineer, Fort Worth, Texas 76137, telephone (817) 222-5170, fax (817) 222-5783, for information about previously approved alternative methods of compliance.

(f) The Joint Aircraft System/Component (JASC) Code is 6230: Main Rotor Mast/Swashplate.

Issued in Fort Worth, Texas, on September 3, 2010.
Kim Smith,
Manager, Rotorcraft Directorate, Aircraft Certification Service.

[FR Doc. 2010-23097 Filed 9-15-10; 8:45 am]

BILLING CODE 4910-13-P